DEPARTMENT OF TRANSPORTATION

Federal Aviation Administration

Eleventh RTCA SC-233 Addressing Human Factors/Pilot Interface Issues for Avionics Plenary

AGENCY: Federal Aviation Administration (FAA), U.S. Department of Transportation (DOT).

ACTION: Eleventh RTCA SC-233 Addressing Human Factors/Pilot Interface Issues for Avionics Plenary.

SUMMARY: The FAA is issuing this notice to advise the public of a meeting of Eleventh RTCA SC-233 Addressing Human Factors/Pilot Interface Issues for Avionics Plenary.

DATES: The meeting will be held September 25-28, 2017.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Eleventh RTCA SC-233 Addressing Human Factors/Pilot Interface Issues for Avionics Plenary. The agenda will include the following:

Monday, September 25, 2017, 8:30 a.m.-4:30 p.m.

(1) Introduction, Upcoming PMC Dates and Deliverable

(2) Review of TOR

(3) Review Previous Meeting Summaries

(4) Roadmap for Remaining Items To Be Completed; Notional Schedule of Activities Remaining

(5) Address Comments Received From the Final Review and Comment Period

Tuesday, September 26, 2017, 8:30 a.m.-4:30 p.m.

(1) Address Comments Received From the Final Review and Comment Period

Wednesday, September 26, 2017, 8:30 a.m.-4:30 p.m.

(1) Address Comments Received From the Final Review and Comment Period

Thursday, September 27, 2017, 8:30 a.m.-4:30 p.m.

(1) Address Comments Received From the Final Review and Comment Period

(2) Entertain the Motion To Submit the Document to the Program Management Committee for Approval

(3) Other Business

(4) Action Items

(5) Review of Key Dates

(6) Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 20, 2017.
Mohannad Dawoud,
Management & Program Analyst, Partnership Contracts Branch, ANG-A17, NextGen, Procurement Services Division, Federal Aviation Administration.

[FR Doc. 2017-15606 Filed 7-25-17; 8:45 am]

BILLING CODE 4910-13-P